DEPARTMENT OF COMMERCE

National Oceanic and Atmospheric Administration

Hydrographic Services Review Panel Meeting

AGENCY: National Ocean Service, National Oceanic and Atmospheric Administration (NOAA), Department of Commerce.

ACTION: Notice of open meeting September 23-24, 2009.

SUMMARY: The Hydrographic Services Review Panel (HSRP), a Federal Advisory Committee, will be holding a public meeting in Duluth, Minnesota, on September 23 and 24, 2009. The meeting is contingent on renewal of the HSRP charter.

Date and Time: The public meeting will be held September 23-24, 2009, from approximately 8:30 a.m. to 5 p.m. on September 23 and 8:30 a.m. to 3 p.m. on September 24. The times and agenda topics are subject to change. For the most current meeting agenda, refer to the HSRP Web site: http://www.nauticalcharts.noaa.gov/ocs/hsrp/hsrp.htm.

Location: The meeting is open to the public and will be held in Duluth, Minnesota. For the location of the meeting facility, refer to the HSRP Web site for specific information (http://www.nauticalcharts.noaa.gov/ocs/hsrp/hsrp.htm) or contact Rebecca Arenson at Hydroservices.panel@noaa.gov or 301-713-2780 x158.

FOR FURTHER INFORMATION CONTACT: Rebecca Arenson, NOAA, Office of Coast Survey, National Ocean Service (NOS), NOAA (N/CS), 1315 East-West Highway, Silver Spring, Maryland 20910; Telephone: 301-713-2780 x158, e-mail: Hydroservices.panel@noaa.gov or visit the NOAA HSRP Web site at http://www.nauticalcharts.noaa.gov/ocs/hsrp/hsrp.htm.

SUPPLEMENTARY INFORMATION: The Hydrographic Services Review Panel (HSRP) was established by the Secretary of Commerce to advise the Under Secretary of Commerce for Oceans and Atmosphere on matters related to the responsibilities and authorities set forth in section 303 of the Hydrographic Services Improvement Act of 1998, its amendments, and such other appropriate matters that the Under Secretary refers to the Panel for review and advice.

The HSRP meeting is open to the public; seating is available on a first-come, first-served basis, and may be limited. Public comment periods will be scheduled at various times throughout the meeting. These public comment periods will be part of the final agenda that will be published before the meeting date on the HSRP Web site (http://www.nauticalcharts.noaa.gov/ocs/hsrp/hsrp.htm). Written public comments should be submitted to Rebecca Arenson no later than September 16, 2009. Those individuals planning to provide oral comments are requested to inform Rebecca Arenson no later than September 16, 2009. The time period for oral comments may be limited. Contact information for Rebecca Arenson is e-mail: Hydroservices.panel@noaa.gov or phone: 301-713-2780 x158.

Items on the meeting agenda include: (1) Panel discussion with regional stakeholders, (2) updates, (3) proposed revisions to the NOAA contracting policy for mapping and charting services, (4) public comment periods, and (5) other topics. Agenda topics and times are subject to change. For the most current meeting agenda, refer to the HSRP Web site: http://www.nauticalcharts.noaa.gov/ocs/hsrp/hsrp.htm.

Dated: August 19, 2009.
Steven R. Barnum,
NOAA, Director, Office of Coast Survey, National Ocean Service, National Oceanic and Atmospheric Administration.

[FR Doc. E9-21129 Filed 9-1-09; 8:45 am]

BILLING CODE 3510-JE-P